DEPARTMENT OF COMMERCE

International Trade Administration

Export Trade Certificate of Review

ACTION: Notice of Issuance of an Amended Export Trade Certificate of Review, Application No. 85-9A018.

SUMMARY: The Department of Commerce has issued an amended Export Trade Certificate of Review to The U.S. Shipper's Association (“USSA”) on July 2, 2001. Notice of issuance of the original Certificate was published in the Federal Register on June 9, 1986, (51 FR 20873).

FOR FURTHER INFORMATION CONTACT: Vanessa M. Bachman, Acting Director, Office of Export Trading Company Affairs, International Trade Administration, by E-mail at oetca@ita.doc.gov, or by phone at (202) 482-5131. This is not a toll-free number.

SUPPLEMENTARY INFORMATION: Title III of the Export Trading Company Act of 1982 (15 U.S.C. 4001 et seq.) authorizes the Secretary of Commerce to issue Export Trade Certificates of Review. The regulations implementing Title III are found at 15 CFR part 325 (2000).

The Office of Export Trading Company Affairs (“OETCA”) is issuing this notice pursuant to 15 CFR 325.6(b), which requires the Department of Commerce to publish a summary of a Certificate in the Federal Register. Under Section 305(a) of the Act and 15 CFR 325.11(a), any person aggrieved by the Secretary's determination may, within 30 days of the date of this notice, bring an action in any appropriate district court of the United States to set aside the determination on the ground that the determination is erroneous.

Description of Amended Certificate

Export Trade Certificate of Review No. 85-00018, was issued to USSA on June 3, 1986 (51 FR 20873, June 9, 1986), and was last amended on May 28, 1999 (64 FR 29994, June 4, 1999).

USSA's Export Trade Certificate of Review has been amended to:

(1) Add the following as “Members” of the Certificate within the meaning of § 325.2(1) of the Regulations (15 CFR 325.2(1)): Basell USA Inc., Wilmington, DE (Controlling Entity: Basell NV., Hoofddorp, The Netherlands); Resolution Performance Products LLC, Houston, TX; (Controlling Entity: Apollo Management LP, New York, NY); KRATON Polymers U.S. LLC (Controlling Entity: R.K. Polymers LLC, New York, NY); Aventis Crop Science, USA LP (Controlling Entity: Aventis Crop Science Holding SA, Lyon, France); George Avery, Westport, CT; J.W.C. & Company, LLC, Macungie, PA” and

(2) Change the listing of current member Rhodia, Inc., Cranberry, New Jersey (Controlling Entity: Rhone-Poulenc, S.A., Courbevoie, France) to Rhodia, Inc., Cranberry, New Jersey (Controlling Entity: Rhodia, S.A., Boulonge-Billancourt, France) and

(3) Delete the following members: ANGUS Chemical Company, Buffalo Grove, IL (Controlling Entity: Alberta Natural Gas, Alberta, Canada); Nova Chemicals Inc., Monaca, PA; Rhone-Poulenc AG Company, Research Triangle Park, NC (Controlling Entity: Rhone-Poulenc, S.A., Courbevoie, France); and Rhone-Poulenc Animal Nutrition, Atlanta, GA (Controlling Entity: Rhone-Poulenc, S.A., Courbevoie, France).

The effective date of the amended certificate is April 3, 2001. A copy of the amended certificate will be kept in the International Trade Administration's Freedom of Information Records Inspection Facility, Room 4102, U.S. Department of Commerce, 14th Street and Constitution Avenue, NW., Washington, DC 20230.

Dated: July 2, 2001.
Vanessa M. Bachman,
Acting Director, Office of Export Trading Company Affairs,

[FR Doc. 01-17054 Filed 7-6-01; 8:45 am]

BILLING CODE 3510-DR-P